DEPARTMENT OF COMMERCE

National Oceanic and Atmospheric Administration

50 CFR Part 665

RIN 0648-XF156

Pacific Island Pelagic Fisheries; 2017 U.S. Territorial Longline Bigeye Tuna Catch Limits for the Territory of American Samoa

AGENCY: National Marine Fisheries Service (NMFS), National Oceanic and Atmospheric Administration (NOAA), Commerce.

ACTION: Announcement of a valid specified fishing agreement.

SUMMARY: NMFS announces a valid specified fishing agreement that allocates up to 1,000 metric tons (t) of the 2017 bigeye tuna limit for the Territory of American Samoa to identified U.S. longline fishing vessels. The agreement supports the long-term sustainability of fishery resources of the U.S. Pacific Islands, and fisheries development in the CNMI.

DATES: The specified fishing agreement is valid on December 1, 2017.

ADDRESSES: NMFS prepared environmental analyses that describe the potential impacts on the human environment that would result from the action. Copies of those analyses, identified by NOAA-NMFS-2017-0004, are available from www.regulations.gov/#!docketDetail;D=NOAA-NMFS-2017-0004, or from Michael D. Tosatto, Regional Administrator, NMFS Pacific Islands Region (PIR), 1845 Wasp Blvd., Bldg. 176, Honolulu, HI 96818.

Copies of the Fishery Ecosystem Plan for Pelagic Fisheries of the Western Pacific Region (Pelagic FEP) are available from the Western Pacific Fishery Management Council (Council), 1164 Bishop St., Suite 1400, Honolulu, HI 96813, tel 808-522-8220, fax 808-522-8226, or www.wpcouncil.org.

FOR FURTHER INFORMATION CONTACT: Jarad Makaiau, NMFS PIRO Sustainable Fisheries, 808-725-5176.

SUPPLEMENTARY INFORMATION: In a final rule published on October 13, 2017, NMFS specified a 2017 limit of 2,000 t of longline-caught bigeye tuna for the U.S. Pacific Island territories of American Samoa, Guam and the Commonwealth of the Northern Mariana Islands (CNMI) (82 FR 47642). Of the 2,000 t limit, NMFS allows each territory to allocate up to 1,000 t to U.S. longline fishing vessels identified in a valid specified fishing agreement.

On November 17, 2017, NMFS received from the Council a specified fishing agreement between the Government of American Samoa and Quota Management, Inc. In the transmittal memorandum, the Council's Executive Director advised that the specified fishing agreement was consistent with the criteria set forth in 50 CFR 665.819(c)(1). NMFS reviewed the agreement and determined that it is consistent with the Pelagic FEP, the Magnuson-Stevens Fishery Conservation and Management Act, implementing regulations, and other applicable laws.

In accordance with 50 CFR 300.224(d) and 50 CFR 665.819(c)(9), vessels identified in the agreement may retain and land bigeye tuna in the western and central Pacific Ocean under the American Samoa limit. NMFS will begin attributing bigeye tuna caught by vessels identified in the agreement with American Samoa starting on November 30, 2017. This date is seven days before December 6, 2017, which is the date NMFS forecasted the fishery would reach the CNMI bigeye tuna allocation. If NMFS determines that the fishery will reach American Samoa 1,000-mt allocation limit, we would restrict the retention of bigeye tuna caught by vessels identified in the agreement, and publish a notice to that effect in the Federal Register.

Authority: 16 U.S.C. 1801 et seq.

Dated: November 30, 2017.
Emily H. Menashes,
Acting Director, Office of Sustainable Fisheries, National Marine Fisheries Service.

[FR Doc. 2017-26227 Filed 12-1-17; 4:15 pm]

BILLING CODE 3510-22-P